Proclamation 7928 of September 9, 2005

National Days of Prayer and Remembrance, 2005

By the President of the United States of America

A Proclamation

Americans will always remember the terrible events and violent cruelty of September 11, 2001. We will always honor the many innocent lives that were lost, and we will never forget the heroism of passengers, first responders, and others on that day. During this year's National Days of Prayer and Remembrance, we pay tribute to the memory of those taken from us in the terrorist attacks in New York, in Pennsylvania, and at the Pentagon. We pray for the families left behind who continue to inspire us through their steadfast character, courage, and determination.

In the time since September 11, 2001, Americans have come together to defend America and advance freedom. We are grateful to our brave men and women in uniform who are making daily sacrifices at home and at posts around the globe, and we pray for their safety as they defend our liberty. In the war on terror, we have lost good men and women who left our shores to protect our way of life and did not live to make the journey home. We honor their memories, and we pray for their families.

The war that began for America on September 11, 2001, continues to call on the courage of our men and women in uniform and the perseverance of our citizens. The past 4 years have brought many challenges and sacrifices, yet we have much reason to be thankful and hopeful about the future. America has become more secure as terrorists have been brought to justice, two of the most brutal and aggressive regimes have ended, and freedom has spread in the Middle East and around the world. In the months and years ahead, we will continue to defend our freedom and lay the foundations of peace for our children and grandchildren.

During these Days of Prayer and Remembrance, we give thanks to the Almighty for our freedom, and we acknowledge our dependence on the Giver of this gift. Four years after September 11, 2001, we remember the lives lost and pray for God's continued blessings on their families and our Nation.

NOW, THEREFORE, I, GEORGE W. BUSH, President of the United States of America, by virtue of the authority vested in me by the Constitution and laws of the United States, do hereby proclaim Friday, September 9, through Sunday, September 11, 2005, as National Days of Prayer and Remembrance. I ask that the people of the United States and places of worship mark these National Days of Prayer and Remembrance with memorial services and other appropriate ceremonies.

IN WITNESS WHEREOF, I have hereunto set my hand this ninth day of September, in the year of our Lord two thousand five, and of the Independence of the United States of America the two hundred and thirtieth.

B

[FR Doc. 05-18369

Filed 9-13-05; 8:45 am]

Billing code 3195-01-P